DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska License Limitation Program for Groundfish, Crab, and Scallops.

OMB Control Number: 0648-0334.

Form Number(s): None.

Type of Request: Regular (revision and extension of a currently approved information collection).

Number of Respondents: 100.

Average Hours per Response: Application for Transfer of License Limitation Program Groundfish/Crab License, 1 hour; Application for Transfer License Limitation Program Scallop License, 1 hour; and Transfer appeals, 4 hours.

Burden Hours: 168.

Needs and Uses: This request is for revision and extension of a currently approved information collection.

The License Limitation Program (LLP) restricts access to the commercial groundfish fisheries, commercial crab fisheries and commercial scallop fisheries in the Exclusive Economic Zone off Alaska except for certain areas where alternative programs exist. The intended effect of the LLP is to limit the number of participants and reduce fishing capacity in fisheries off Alaska.

For a vessel designated on an LLP license, the LLP license authorizes the type of fishing gear that may be used by the vessel, the maximum size of the vessel, and whether the vessel may catch and process fish at sea or if it is limited to delivering catch without at-sea processing. LLP licenses that allow vessels to catch and process at-sea are assigned a catcher/processor endorsement. LLP licenses specify the maximum length over all (MLOA) of the vessel to which that LLP license may be assigned. Regulations implementing the LLP prohibit participants in LLP groundfish fisheries from using a vessel to fish for LLP groundfish that has a length overall that is greater than the MLOA specified on the LLP license. The LLP also includes a species endorsement for Pacific cod in the BSAI and GOA.

An LLP license is required onboard any vessel deployed in scallop fisheries in Federal waters off Alaska (except for some diving operations). The scallop LLP is intended to limit the number of participants and reduce fishing capacity in the scallop fishery off Alaska. The scallop LLP will limit the number of participants and reduce fishing capacity in the scallop fishery off Alaska.

Affected Public: Business or other for-profit organizations.

Frequency: On occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 8, 2014.
Glenna Mickelson,
Management Analyst, Office of the Chief Information Officer.

[FR Doc. 2014-29058 Filed 12-10-14; 8:45 am]

BILLING CODE 1310-22-P